Title 3—

The President

Proclamation 10807 of September 10, 2024

Patriot Day and National Day of Service and Remembrance, 2024

By the President of the United States of America

A Proclamation

Today, we honor the brave Americans who met the terror of September 11 with extraordinary acts of courage and sacrifice. In our darkest hour—when terrorists believed they could bring our country to its knees—those Americans proved that our Nation's unbreakable spirit would prevail.

In the moments, days, and years after the attacks on September 11, heroes were forged. Firefighters, police officers, and first responders ran into the inferno of jet fuel and debris at Ground Zero, risking their own lives to save the lives of others. Service members and civilians rushed into the fiery breach at the Pentagon again and again to rescue their colleagues. The patriotic passengers of Flight 93 made the ultimate sacrifice to prevent their plane from being used to take more innocent souls. And in big cities, rural towns, suburbs, and Tribal communities, hundreds of thousands of American hands went up—ready to serve our Nation in uniform.

We owe these patriots of the 9/11 Generation a debt of gratitude that we can never fully repay. They were deployed to Afghanistan to make sure the United States would not be attacked again. They served in Iraq and other war zones to defend our democracy and deny terrorists safe haven. They followed Osama bin Laden to the ends of the Earth and ultimately sent him to the gates of hell. And 2 years ago, we made sure his deputy met the same fate.

The First Lady and I hold all those whose loved ones gave their last full measure of devotion in this fight close in our hearts. And we will never stop working to fulfill our country's sacred obligation to them and every military and veteran family, caregiver, and survivor: to properly prepare and equip those we send into harm's way and to care for them and their families when they return home—and when they do not.

Over the last 23 years, what was destroyed, we have repaired. What was threatened, we have fortified. What was attacked—the indomitable American spirit—prevailed. That is who we are. That is the soul of our Nation. There is nothing we cannot accomplish when we defend with all our hearts that which makes us unique in the world: our democracy. That is what the heroes and patriots of 9/11 did. And that is what we must all continue to do today.

To observe this day with service, find opportunities to volunteer in your community at americorps.gov/911-day.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, JOSEPH R. BIDEN JR., President of the United States of America, do hereby proclaim September 11, 2024, as Patriot Day and National Day of Service and Remembrance. I call upon all departments, agencies, and instrumentalities of the United States to display the flag of the United States at half-staff on Patriot Day and National Day of Service and Remembrance in honor of the individuals who lost their lives on September 11, 2001. I invite the Governors of the United States and its Territories and interested organizations and individuals to join in this observance. I call upon the people of the United States to participate in community service in honor of those our Nation lost, to observe this day with appropriate ceremonies and activities, including remembrance services, and to observe a moment of silence beginning at 8:46 a.m. Eastern Daylight Time to honor the innocent victims who perished as a result of the terrorist attacks on September 11, 2001.

IN WITNESS WHEREOF, I have hereunto set my hand this tenth day of September, in the year of our Lord two thousand twenty-four, and of the Independence of the United States of America the two hundred and forty-ninth.

[FR Doc. 2024-20982

Filed 9-12-24; 8:45 am]

Billing code 3395-F4-P